NUCLEAR REGULATORY COMMISSION

[Docket Nos. 50-327 and 50-328]

Tennessee Valley Authority; Notice of Partial Denial of Amendment to Facility Operating License; and Opportunity for Hearing

The U.S. Nuclear Regulatory Commission (NRC or the Commission) has denied a portion of a request by the Tennessee Valley Authority (the licensee) for an amendment to Facility Operating License Nos. DPR-77 and DPR-79, issued to the licensee for operation of the Sequoyah Nuclear Plant, Unit Nos. 1 and 2, located in Hamilton County, Tennessee.

Notice of Consideration of Issuance of this amendment was published in the Federal Register on February 5, 2002 (67 FR 5339).

The purpose of the licensee's amendment request was to revise the Technical Specifications (TS) by changing TS 4.4.5.5.C and Table 4.4-2, which involve reporting Category C-3 steam generator tube inspection results to the NRC. The request also involved eliminating several other reporting requirements.

The NRC staff has concluded that the licensee's request regarding steam generator Category C-3 condition reporting cannot be granted. The licensee was notified of the Commission's denial of the proposed change by a letter dated May 24, 2002.

By July 5, 2002, the licensee may demand a hearing with respect to the denial described above. Any person whose interest may be affected by this proceeding may file a written petition for leave to intervene.

A request for hearing or petition for leave to intervene must be filed with the Secretary of the Commission, U.S. Nuclear Regulatory Commission, Washington, DC 20555-0001 Attention: Rulemakings and Adjudications Staff, or may be delivered to the Commission's Public Document Room (PDR), located at One White Flint North, 11555 Rockville Pike (first floor), Rockville, Maryland, by the above date. A copy of any petitions should also be sent to the Office of the General Counsel, U.S. Nuclear Regulatory Commission, Washington, DC 20555-0001, and to General Counsel, Tennessee Valley Authority, 400 West Summit Hill Drive, ET 11A, Knoxville, Tennessee 37902, attorney for the licensee.

For further details with respect to this action, see (1) the application for amendment dated February 5, 2002, and (2) the Commission's letter to the licensee dated May 24, 2002.

Documents may be examined, and/or copied for a fee, at the NRC's PDR, located at One White Flint North, 11555 Rockville Pike (first floor), Rockville, Maryland, and will be accessible electronically through the Agencywide Documents Access and Management System's Public Electronic Reading Room link at the NRC Web site http://www.nrc.gov/reading-rm/adams.html. Persons who do not have access to ADAMS or who encounter problems in accessing documents located in ADAMS, should contact the NRC PDR Reference staff by telephone at 1-800-397-4209, 301-415-4737, or by e-mail to pdr@nrc.gov.

Dated at Rockville, Maryland, this 24th day of May, 2002.
Herbert N. Berkow,
Director, Project Directorate II, Division of Licensing Project Management, Office of Nuclear Reactor Regulation.

[FR Doc. 02-14063 Filed 6-4-02; 8:45 am]

BILLING CODE 7590-01-M